DEPARTMENT OF ENERGY

Federal Energy Regulatory Commission

[Docket No. RP00-505-000]

Kern River Gas Transmission Company; Notice of Proposed Changes in FERC Gas Tariff

August 31, 2000.

Correction

In notice document 00-22934 appearing on page 54246, in the issue of Thursday, September 7, 2000, make the following correction:

On page 54246, in the second column, the docket number is corrected to read as set forth above.

[FR Doc. C0-22934 Filed 9-14-00; 8:45 am]

BILLING CODE 1505-01-D

SECURITIES AND EXCHANGE COMMISSION

[Release No. 34-43099; File No. SR-CBOE-99-35]

Self-Regulatory Organizations; Order Approving Proposed Rule Change and Notice of Filing and Order Granting Accelerated Approval to Amendment Nos. 1, 2 and 3 to the Proposed Rule Change by the Chicago Board Options Exchange, Inc., Relating to Facilitation Crosses of Index Options Orders

July 31, 2000.

Correction

In notice document 00-19911 beginning on page 48264 in the issue of Monday, August 7, 2000, the heading should read as set forth above.

[FR Doc. C0-19911 Filed 9-14-00; 8:45 am]

BILLING CODE 1505-01-D

SECURITIES AND EXCHANGE COMMISSION

[Release No. 34-43113; File No. SR-CBOE-00-32]

Self-Regulatory Organizations; Notice of Filing and Immediate Effectiveness of Proposed Rule Change by Chicago Board Options Exchange, Inc. Relating to the Adoption of the CBOE Best Executive Assurance Program

August 3, 2000.

Correction

In notice document 00-20256 beginning on page 49038 in the issue of Thursday, August 10, 2000, the heading is corrected by adding the date.

[FR Doc. C0-20256 Filed 9-14-00; 8:45 am]

BILLING CODE 1505-01-D

SECURITIES AND EXCHANGE COMMISSION

[Release No. 34-43138; File No. SR-NASD-99-53]

Self-Regulatory Organizations; Notice of Filing of Amendment Nos. 5, 6, and 7 to Proposed Rule Change by National Association of Securities Dealers, Inc. Relating to the Establishment of Nasdaq Order Display Facility and to Modifications of the Nasdaq Trading Platform

August 10, 2000.

Correction

In notice document 00-20686 beginning on page 49842 in the issue of Tuesday, August 15, 2000, the docket line should read as set forth above.

[FR Doc. C0-20686 Filed 9-14-00; 8:45 am]

BILLING CODE 1505-01-D

SECURITIES AND EXCHANGE COMMISSION

[Investment Company Act Release No. 24600; 812-12152]

Nations Fund, Inc., et al.; Notice of Application

August 18, 2000.

Correction

In notice document 00-21629 beginning on page 51372 in the issue of Wednesday, August 23, 2000, the heading is corrected by adding the date.

[FR Doc. C0-21629 Filed 9-14-00; 8:45 am]

BILLING CODE 1505-01-D